DEPARTMENT OF ENERGY

Office of Science; Fusion Energy Sciences Advisory Committee

AGENCY: Department of Energy.

ACTION: Notice of open meeting correction.

On June 3, 2005, the Department of Energy published a notice of open meeting announcing a meeting of the Fusion Energy Sciences Advisory Committee, 70 FR 33887. In that notice, the meeting was scheduled for Tuesday, July 19, 2005, 8 a.m. to 6 p.m. and Wednesday, July 20, 2005, 8 a.m. to 12 noon. Today's notice is announcing that the meeting will now be for one day, July 19, 2005, 9 a.m. to 5 p.m.

Issued in Washington, DC on July 8, 2005.
Rachel Samuel,
Deputy Advisory Committee Management Officer.

[FR Doc. 05-13861 Filed 7-13-05; 8:45 am]

BILLING CODE 6450-01-P